DEPARTMENT OF TRANSPORTATION

Federal Aviation Administration

Office of Commercial Space Transportation; Notice of Availability of the Final Environmental Assessment (EA) for the Midland International Air and Space Port, City of Midland, Midland County, Texas, and Finding of No Significant Impact (FONSI)

AGENCY: Federal Aviation Administration (FAA), Department of Transportation (DOT).

ACTION: Notice of availability.

SUMMARY: In accordance with the National Environmental Policy Act of 1969, as amended (NEPA; 42 U.S.C. 4321, et seq.), Council on Environmental Quality NEPA implementing regulations (40 CFR Parts 1500-1508), and FAA Order 1050.1E, Change 1, the FAA is announcing the availability of the Final EA for the Midland International Air and Space Port, City of Midland, Midland County, Texas, and FONSI.

FOR FURTHER INFORMATION CONTACT: Mr. Daniel Czelusniak, Federal Aviation Administration, 800 Independence Avenue SW., Suite 325, Washington, DC 20591; email Daniel.Czelusniak@faa.gov; or phone (202) 267-5924.

SUPPLEMENTARY INFORMATION: The Final EA was prepared to analyze the potential environmental impacts of the City of Midland's proposal to operate a commercial space launch site at the Midland International Airport (MAF) in Midland County, Texas and offer the site to XCOR Aerospace, Inc. (XCOR) for the operation of the Lynx horizontal take-off and horizontal landing reusable launch vehicle (RLV) and engine testing. To operate a commercial space launch site, the City of Midland must obtain a commercial space launch site operator license from the FAA. Under the Proposed Action addressed in the EA, the FAA would: (1) Issue a launch site operator license to the City of Midland for the operation of a commercial space launch site at MAF, (2) issue experimental permits and/or launch licenses to XCOR that would allow XCOR to conduct launches of the Lynx RLV from MAF, and (3) provide approval to modify the existing Airport Layout Plan (ALP) to reflect the designation of a launch site boundary, installation of aboveground propellant storage tanks, and construction of a concrete pad for engine testing. Proposed launch operations would begin in 2014 and continue through 2018. The frequency of launch operations would initially be one launch per week, eventually increasing to two launches per day, five days a week. Fifty-two annual launch operations are proposed in 2014. The total number of annual launch operations would increase each year until 2018 when 520 annual launch operations are proposed.

The Final EA addresses the potential environmental impacts of implementing the Proposed Action and the No Action Alternative. Under the No Action Alternative, the FAA would not issue a launch site operator license to the City of Midland and thus would not issue experimental permits and/or launch licenses to XCOR for operation of the Lynx RLV at MAF. Also, there would be no need to update the ALP for MAF, and thus there would be no approval of a revised ALP. Existing commercial aviation and military operations would continue at MAF.

The impact categories considered in the Final EA include air quality; compatible land use; Department of Transportation Act: Section 4(f); fish, wildlife, and plants; floodplains; hazardous materials, pollution prevention, and solid waste; historical, architectural, archaeological, and cultural resources; natural resources and energy supply; noise; socioeconomic impacts, environmental justice, and children's environmental health and safety risks; water quality; and wetlands. The Final EA also considers the potential cumulative environmental impacts.

The FAA has posted the Final EA and FONSI on the FAA Web site at http://www.faa.gov/about/office_org/headquarters_offices/ast/environmental/nepa_docs/review/operator/.

The FAA published a Notice of Availability of the Draft EA in the Federal Register on March 24, 2014. A Notice of Availability of the Draft EA was also published in the Midland Reporter-Telegram, Odessa American, and Big Spring Herald on March 30, 2014 and in the Big Lake Wildcat on April 3, 2014. The FAA mailed copies of the Draft EA to the following agencies: Texas Historical Commission (State Historic Preservation Officer), Texas Parks and Wildlife Department, and U.S. Fish and Wildlife Service. An electronic version of the Draft EA was also made available on the FAA Web site. In addition, the FAA printed and mailed a copy of the Draft EA to the following libraries: Midland County Library, Ector County Library, and Reagan County Library. The FAA held an open house public meeting on April 8, 2014 from 5:30 p.m. to 8:30 p.m. at the University of Texas of the Permian Basin, Center for Energy and Economic Diversification. The public comment period ended on April 24, 2014. The FAA received two public comments on the Draft EA, both in support of the Proposed Action. No substantive changes were made to this Final EA.

Issued in Washington, DC, on September 9, 2014.
Daniel Murray,
Manager, Space Transportation Development Division.

[FR Doc. 2014-21905 Filed 9-12-14; 8:45 am]

BILLING CODE 4910-13-P